SOCIAL SECURITY ADMINISTRATION

Agency Information Collection Activities: Proposed Request and Comment Request

In compliance with Public Law 104-13, the Paperwork Reduction Act of 1995, SSA is providing notice of its information collections that require submission to the Office of Management and Budget (OMB). SSA is soliciting comments on the accuracy of the agency's burden estimate; the need for the information; its practical utility; ways to enhance its quality, utility and clarity; and on ways to minimize burden on respondents, including the use of automated collection techniques or other forms of information technology.

The information collections listed below have been submitted to OMB for clearance. Written comments and recommendations on the information collections would be most useful if received within 30 days from the date of this publication. Comments should be directed to the SSA Reports Clearance Officer and the OMB Desk Officer at the addresses listed after this publication. You can obtain a copy of the OMB clearance package by calling the SSA Reports Clearance Officer on (410) 965-4145, or by writing to him.

1. Report to United States Social Security Administration by Person Receiving Benefits for a Child or Adult Unable to Handle Funds-0960-0049. The information on Forms SSA-7161-OCR-SM and 7162-OCR-SM is used by the Social Security Administration (SSA) to determine continuing entitlement and proper benefit amounts for Social Security beneficiaries who live outside the United States (U.S.). The respondents are persons living outside the U.S. who are entitled to benefits or who are representative payees for beneficiaries.

| SSA-7161-OCR-SM | SSA-7162-OCR-SM
Number of Respondents | 30,000 | 200,000
Frequency of Response | 1 | 1
Average Burden Per Response (minutes) | 15 | 5
Estimated Annual Burden (hours) | 7,500 | 16,667

2. State Agency Schedule for Equipment Purchases for SSA Disability Programs-0960-0406. SSA uses the information collected on Form SSA-871 to budget and account for expenditures of funds for equipment purchases by the State Disability Determination Services (DDS) that administer the disability determination program. The respondents are State governments that make disability determinations.

Number of Respondents: 54.

Frequency of Response: 4.

Average Burden Per Response: 60 minutes.

Estimated Annual Burden: 216 hours.

3. Physical Residual Functional Capacity Assessment; Mental Residual Functional Capacity Assessment-0960-0431. The information collected on forms SSA-4734-BK and SSA-4734-BK-SUP is needed by SSA to assist in the adjudication of disability claims involving physical and/or mental impairments. The forms assist the State DDS to evaluate impairment(s) by providing a standardized data collection format to present findings in a clear, concise and consistent manner. The respondents are State DDSs administering title II and title XVI disability programs.

Number of Responses: 1,130,772.

Frequency of Response: 1.

Average Burden Per Response: 20 minutes.

Estimated Annual Burden: 376,924 hours.

(SSA Address)

Social Security Administration, DCFAM, Attn: Frederick W. Brickenkamp, 6401 Security Blvd., 1-A-21 Operations Bldg., Baltimore, MD 21235.

(OMB Address)

Office of Management and Budget, OIRA, Attn: Desk Officer for SSA, New Executive Office Building, Room 10230, 725 17th St., NW, Washington, DC 20503.

Dated: February 28, 2000.
Frederick W. Brickenkamp,
Reports Clearance Officer, Social Security Administration.

[FR Doc. 00-5161 Filed 3-2-00; 8:45 am]

BILLING CODE 4190-29-P